DEPARTMENT OF TRANSPORTATION

Federal Aviation Administration

14 CFR Part 39

[Docket No. FAA-2013-0978; Directorate Identifier 2013-NM-120-AD; Amendment 39-17958; AD 2014-17-05]

RIN 2120-AA64

Airworthiness Directives; the Boeing Company Airplanes

AGENCY: Federal Aviation Administration (FAA), DOT.

ACTION: Final rule.

SUMMARY: We are adopting a new airworthiness directive (AD) for certain The Boeing Company Model 767-400ER series airplanes. This AD was prompted by reports of turbine wheel bursts in the air driven pump (ADP) turbine gearbox assembly (TGA), which resulted in the release of high energy fragments. This AD requires replacing the existing ADP TGA with an improved ADP TGA. We are issuing this AD to prevent fragments from an uncontained turbine wheel burst penetrating the fuselage and striking passengers, or penetrating the wing-to-body fairing and striking ground handling or maintenance personnel, causing serious injury.

DATES: This AD is effective October 8, 2014.

The Director of the Federal Register approved the incorporation by reference of a certain publication listed in this AD as of October 8, 2014.

ADDRESSES: For service information identified in this AD, contact Boeing Commercial Airplanes, Attention: Data & Services Management, P. O. Box 3707, MC2H-65, Seattle, WA 98124-2207; telephone 206-544-5000, extension 1; fax 206-766-5680; Internet https://www.myboeingfleet.com. You may review this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2013-0978; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Kenneth Frey, Aerospace Engineer, Systems and Equipment Branch, ANM-130S, FAA, Seattle Aircraft Certification Office, 1601 Lind Avenue SW., Renton, WA 98057-3356; phone: 425-917-6468; fax: 425-917-6190; email: kenneth.frey@faa.gov.

SUPPLEMENTARY INFORMATION:

Discussion

We issued a notice of proposed rulemaking (NPRM) to amend 14 CFR part 39 by adding an AD that would apply to certain The Boeing Company Model 767-400ER series airplanes. The NPRM published in the Federal Register on December 6, 2013 (78 FR 73460). The NPRM was prompted by reports of turbine wheel bursts in the ADP TGA, which resulted in the release of high energy fragments. The NPRM proposed to require replacing the existing ADP TGA with an improved ADP TGA. We are issuing this AD to prevent fragments from an uncontained turbine wheel burst penetrating the fuselage and striking passengers, or penetrating the wing-to-body fairing and striking ground handling or maintenance personnel, causing serious injury.

Revised Service Information

In Note 1 to paragraph (g) of the NPRM (78 FR 73460, December 6, 2013), we referred to Fairchild Controls Service Bulletin N012000000-29-03, Revision 2, dated January 29, 2013, as a source of guidance information for modifying an existing ADP TGA. Since the NPRM was published, Fairchild Controls has published Fairchild Controls Service Bulletin N012000000-29-03, Revision 3, dated March 7, 2014. We have revised Note 1 to paragraph (g) of this final rule to refer to Fairchild Controls Service Bulletin N012000000-29-03, Revision 3, dated March 7, 2014.

Comments

We gave the public the opportunity to participate in developing this AD. The following presents the comment received on the proposal (78 FR 73460, December 6, 2013) and the FAA's response to the comment.

Request to Clarify Compliance Time

Boeing commented that the compliance time in paragraph (i) of the proposed NPRM (78 FR 73460, December 6, 2013) was confusing and requested clarification. Boeing stated that the compliance time in Boeing Special Attention Service Bulletin 767-29-0113, dated May 29, 2013, is 36 months after the release date of that service bulletin, which was May 29, 2013. Boeing asked if the NPRM's compliance time was also 36 months after that service bulletin's release date, or if it was 36 months after the effective date of the final rule. Boeing suggested that paragraph (i) of the proposed NPRM be revised to state “36 months after the effective date of the AD.”

We agree to clarify the compliance time. Paragraph (i) of this AD explains that where Boeing Special Attention Service Bulletin 767-29-0113, dated May 29, 2013, specifies a compliance time “after the original issue date of this service bulletin,” this AD requires compliance within the specified compliance time “after the effective date of this AD. Boeing Special Attention Service Bulletin 767-29-0113, dated May 29, 2013, specifies a compliance time of “within 36 months after the original issue date of this service bulletin.” Therefore, the compliance time for accomplishing the replacement required by this AD is within 36 months after the effective date of this AD. No change was made to this final rule regarding this issue.

Conclusion

We reviewed the relevant data, considered the comment received, and determined that air safety and the public interest require adopting this AD as proposed except for minor editorial changes. We have determined that these minor changes:

• Are consistent with the intent that was proposed in the NPRM (78 FR 73460, December 6, 2013) for correcting the unsafe condition; and

• Do not add any additional burden upon the public than was already proposed in the NPRM (78 FR 73460, December 6, 2013).

Costs of Compliance

We estimate that this AD affects 37 airplanes of U.S. registry.

We estimate the following costs to comply with this AD:

Estimated Costs
Action | Labor cost | Parts cost | Cost per product | Cost on U.S. operators.
Replacement | 7 work-hours × $85 per hour = $595 | $114,705 | $115,300 | $4,266,100

Authority for this Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-17-05 The Boeing Company: Amendment 39-17958; Docket No. FAA-2013-0978; Directorate Identifier 2013-NM-120-AD.

(a) Effective Date

This AD is effective October 8, 2014.

(b) Affected ADs

None.

(c) Applicability

This AD applies to The Boeing Company Model 767-400ER series airplanes, certificated in any category, as identified in Boeing Special Attention Service Bulletin 767-29-0113, dated May 29, 2013.

(d) Subject

Air Transport Association (ATA) of America Code 29, Hydraulic Power.

(e) Unsafe Condition

This AD was prompted by reports of turbine wheel bursts in the air driven pump (ADP) turbine gearbox assembly (TGA), which resulted in the release of high energy fragments. We are issuing this AD to prevent fragments from an uncontained turbine wheel burst penetrating the fuselage and striking passengers, or penetrating the wing-to-body fairing and striking ground handling or maintenance personnel, causing serious injury.

(f) Compliance

Comply with this AD within the compliance times specified, unless already done.

(g) Replacement of Turbine Gearbox Assembly

Except as required by paragraph (i) of this AD: At the time specified in paragraph 1.E., “Compliance,” of Boeing Special Attention Service Bulletin 767-29-0113, dated May 29, 2013, replace the existing ADP TGA having part number N012000000 or N012000000-1 with an improved ADP TGA having part number N012000000-2 or N012000000-3, in accordance with the Accomplishment Instructions of Boeing Special Attention Service Bulletin 767-29-0113, dated May 29, 2013.

Note 1 to paragraph (g) of this AD: Guidance on modifying an existing ADP TGA so it can be re-identified as part number N012000000-2 or N012000000-3 can be found in Fairchild Controls Service Bulletin N012000000-29-03, Revision 3, dated March 7, 2014.

(h) Parts Installation Prohibition

As of the effective date of this AD, no person may install an ADP TGA having part number N012000000 or N012000000-1 on any airplane.

(i) Exception to Service Information Specifications

Where Boeing Special Attention Service Bulletin 767-29-0113, dated May 29, 2013, specifies a compliance time “after the original issue date of this service bulletin,” this AD requires compliance within the specified compliance time “after the effective date of this AD.”

(j) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (k) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane.

(k) Related Information

For more information about this AD, contact Kenneth Frey, Aerospace Engineer, Systems and Equipment Branch, ANM-130S, FAA, Seattle Aircraft Certification Office, 1601 Lind Avenue SW., Renton, WA 98057-3356; phone: 425-917-6468; fax: 425-917-6190; email: kenneth.frey@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Special Attention Service Bulletin 767-29-0113, dated May 29, 2013.

(ii) Reserved.

(3) For service information identified in this AD, contact Boeing Commercial Airplanes, Attention: Data & Services Management, P. O. Box 3707, MC 2H-65, Seattle, WA 98124-2207; telephone 206-544-5000, extension 1; fax 206-766-5680; Internet https://www.myboeingfleet.com.

(4) You may view this service information at FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington on August 15, 2014.
Michael Kaszycki,
Acting Manager, Transport Airplane Directorate, Aircraft Certification Service.

[FR Doc. 2014-20213 Filed 9-2-14; 8:45 am]

BILLING CODE 4910-13-P